DEPARTMENT OF STATE

[Public Notice 3701]

Culturally Significant Objects Imported for Exhibition Determinations: “Bernardo Bellotto and the Capitals of Europe”

AGENCY: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “Bernardo Bellotto and the Capitals of Europe,” imported from abroad for the temporary exhibition without profit within the United States, are of cultural significance. These objects are imported pursuant to a loan agreement with the foreign lenders. I also determine that the exhibition or display of the exhibit objects at The Museum of Fine Arts, Houston from on or about July 29, 2001 to on or about October 21, 2001 is in the national interest. Public Notice of these Determinations is ordered to be published in the Federal Register.

FOR FURTHER INFORMATION CONTACT: For further information, including the exhibit objects, contact Jacqueline H. Caldwell, Attorney-Adviser, Office of the Legal Adviser, U.S. Department of State (telephone: 202/619-6982). The address is U.S. Department of State, SA-44, 301 4th Street, SW., Room 700, Washington, DC 20547-0001.

Dated: June 12, 2001.
Helena Kane Finn,
Acting Assistant Secretary for Educational and Cultural Affairs, United States Department of State.

[FR Doc. 01-15540 Filed 6-19-01; 8:45 am]

BILLING CODE 4710-08-U